DEPARTMENT OF TRANSPORTATION

Federal Aviation Administration

14 CFR Part 39

[Docket No. 2001-NM-04-AD; Amendment 39-12306; AD 2001-13-24]

RIN 2120-AA64

Airworthiness Directives; Airbus Model A310 Series Airplanes and Airbus Model A300 B4-600, B4-600R, and F4-600R (Collectively Called A300-600) Series Airplanes

AGENCY: Federal Aviation Administration, DOT.

ACTION: Final rule.

SUMMARY: This amendment adopts a new airworthiness directive (AD), applicable to certain Airbus Model A310 series airplanes and Model A300 B4-600, B4-600R, and F4-600R (collectively called A300-600) series airplanes, that requires revising the Airplane Flight Manual to prohibit the airplane from being moved during inertial reference unit alignment. The actions specified by this AD are intended to prevent a loss of positioning data and a display of incorrect attitude data to the flight crew, which could result in severe consequences to the airworthiness of the airplane if operated under flight conditions with no visual reference. This action is intended to address the identified unsafe condition.

DATES: Effective August 10, 2001.

The incorporation by reference of certain publications listed in the regulations is approved by the Director of the Federal Register as of August 10, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Airbus Model A310 series airplanes and Airbus Model A300 B4-600, B4-600R, and F4-600R (collectively called A300-600) series airplanes was published in the Federal Register on April 26, 2001 (66 FR 20948). That action proposed to require revising the Airplane Flight Manual (AFM) to prohibit the airplane from being moved during inertial reference unit alignment.

Comments

Interested persons have been afforded an opportunity to participate in the making of this amendment. No comments were submitted in response to the proposal or the FAA's determination of the cost to the public.

Conclusion

The FAA has determined that air safety and the public interest require the adoption of the rule as proposed.

Change to the Final Rule

Paragraph (b) of the proposal has been changed to a “note” in this final rule, since the material contained in that paragraph is informational only.

Cost Impact

The FAA estimates that 157 airplanes of U.S. registry will be affected by this AD, that it will take approximately 1 work hour per airplane to accomplish the required AFM revision, and that the average labor rate is $60 per work hour. Based on these figures, the cost impact of the AD on U.S. operators is estimated to be $9,420, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-24 Airbus Industrie: Amendment 39-12306. Docket 2001-NM-04-AD.

Applicability: Model A310 series airplanes and Model A300 B4-600, B4-600R, and F4-600R (collectively called A300-600) series airplanes, certificated in any category; with installed Inertial Reference Units (IRU) Honeywell 10 MCU part number (P/N) HG1050BD02 or HG1050BD05.

Compliance: Required as indicated, unless accomplished previously.

To prevent a loss of positioning data and a display of incorrect attitude data to the flight crew, accomplish the following:

Revision to Airplane Flight Manual (AFM)

(a) Within 10 days after the effective date of this AD, revise the Normal Procedures section of the FAA-approved AFM to include the following information. This may be accomplished by inserting either a copy of this AD or Temporary Revision (TR) 4.03.00/22, dated September 18, 2000, into the A310 AFM or the A300-600 AFM, as applicable, facing 4.03.00 page 1.

“COCKPIT PREPARATION

Do not move the aircraft during IRS alignment.

PRIOR TO TAKEOFF

Scan PFD/ND to check correct display of all primary attitude and heading information.”

Note 1: When the information in TR 4.03.00/22 has been incorporated into FAA-approved general revisions of the AFM, the general revisions may be incorporated in the AFM, and this TR or this AD may be removed from the AFM.

Alternative Methods of Compliance

(b) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) Except as provided by paragraph (a) of this AD, the actions shall be done in accordance with Temporary Revision 4.03.00/22, dated September 18, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-480-325(B), dated November 29, 2000.

Effective Date

(e) This amendment becomes effective on August 10, 2001.

Issued in Renton, Washington, on June 27, 2001.
Vi L. Lipski,
Manager, Transport Airplane Directorate, Aircraft Certification Service.

[FR Doc. 01-16741 Filed 7-5-01; 8:45 am]

BILLING CODE 4910-13-U